DEPARTMENT OF ENERGY

Federal Energy Regulatory Commission

[Project No. 346-037]

Notice of Application Ready for Environmental Analysis and Soliciting Comments, Terms and Conditions, Recommendations and Prescriptions

March 26, 2002.

Take notice that the following hydroelectric application and applicant prepared environmental assessment (APEA) have been filed with the Commission and are available for public inspection.

a. Type of Application: New Major License.

b. Project No.: 346-037.

c. Date Filed: August 23, 2001.

d. Applicant: Minnesota Power Inc.

e. Name of Project: Blanchard Hydroelectric Project.

f. Location: On the Mississippi River near the City of Little Falls, in Morrison County, MN. The project occupies Federal lands of the Bureau of Land Management.

g. Filed Pursuant to: Federal Power Act 16 U.S.C. 791(a) 825(r).

h. Applicant Contact: Bob Bohm, Minnesota Power, Inc., P.O. Box 60, Little Falls, MN 56345, rbohm@mnpower.com 320-632-2318, ext. 5042.

i. FERC Contact: Tom Dean, thomas.dean@ferc.fed.us, 202-219-2778.

j. Deadline for filing comments, final terms and conditions, recommendations, and prescriptions: 60 days from the issuance date of this notice.

All documents (original and eight copies) should be filed with: Magalie R. Salas, Secretary, Federal Energy Regulatory Commissions, 888 First Street, NE., Washington, DC 20426. Comments, recommendations, terms and conditions, and prescriptions may be filed electronically via the internet in lieu of paper. See 18 CFR 385.2001(a)(l)(iii) and the instructions on the Commission's web site at under the “e-Filing” link.

The Commission's Rules of Practice require all intervenors filing documents with the Commission to serve a copy of that document on each person that is on the official service list for the project. Further, if an intervenor files comments or documents with the Commission relating to the merits of an issue that may affect the responsibilities of a particular resource agency, they must also serve a copy of the document on that resource agency.

k. The license application and the APEA have been accepted for filing and are now ready for environmental analysis. No additional information or studies are needed to prepare the Commission's environmental assessment. Comments are now being requested from interested parties. The applicant will have 45 days following the end of this comment period to respond to any comments filed within the comment period.

l. The existing Blanchard Project consists of: (1) a 750-foot-long, 62-foot-high concrete gravity dam comprising: (a) a 190-foot-long non-overflow section; (b) a 437-foot-long gated spillway section; (c) eight 44-foot-wide by 14.7-foot-high Taintor gates; and (d) a 124-foot-wide integral powerhouse; (2) approximately 3,540-foot-long earth dikes extending from both sides of the concrete dam; (3) a 1,152-acre reservoir at normal water surface elevation of 1,081.7 feet NGVD; (4) a powerhouse containing three generating units with a total installed capacity of 18,000 kW; and (5) other appurtenances.

m. Copies of this filing are on file with the Commission and are available for public inspection. This filing may also be viewed on the web at http://www.ferc.gov using the “RIMS” link, select “Docket#” and follow the instructions (call 202-208-2222 for assistance). A copy is also available for inspection and reproduction by contacting the applicant identified in item h above.

n. The Commission directs, pursuant to Section 4.34(b) of the Regulations (see Order No. 533 issued May 8, 1991, 56 FR 23108, May 20, 1991) that all comments, recommendations, terms and conditions and prescriptions concerning the application and APEA be filed with the Commission within 60 days from the issuance date of this notice. All reply comments must be filed with the Commission within 105 days from the date of this notice.

These deadlines may be extended by the Commission, but only upon a showing of good cause or extraordinary circumstances in accordance with 18 CFR 385.2008.

All filings must; (1) Bear in all capital letters the title “COMMENTS,” “REPLY COMMENTS,” “RECOMMENDATIONS,” “TERMS AND CONDITIONS,” or “PRESCRIPTIONS;” (2) set forth in the heading the name of the applicant, and the project number of the application, to which the filing pertains; (3) furnish the name, address, and telephone number of the person protesting or intervening; and (4) otherwise comply with the requirements of 18 CFR 385.2001 through 385.2005. All comments, recommendations, terms and conditions or prescriptions must set forth their evidentiary basis and otherwise comply with the requirements of 18 CFR 4.34(b). Agencies may obtain copies of the application directly from the applicant. Each filings must be accompanied by proof of service on all persons listed in the service list prepared by the Commission in this proceeding, in accordance with 18 CFR 4.34(b) and 385.2010.

Magalie R. Salas,
Secretary.

[FR Doc. 02-7748 Filed 3-29-02; 8:45 am]

BILLING CODE 6717-01-P